DEPARTMENT OF COMMERCE

Bureau of Industry and Security

Action Affecting Export Privileges; Joseph Piquet and Related Person Alphatronx, Inc.

In the Matter of: Joseph Piquet, 76067-004, currently incarcerated at FCI Miami, Federal Correctional Institution, P.O. Box 779800, Miami, FL 33177, and 1258 SW. Maplewood Dr., Port St. Lucie, FL 34986, Respondent, Alphatronx, Inc., 1258 SW. Maplewood Drive, Port St. Lucie, FL 34986, Related Person.

Order Making Order Denying Export Privileges of Joseph Piquet Applicable to Related Person Alphatronx, Inc.

Pursuant to Sections 766.25(h) and 766.23 of the Export Administration Regulations ¹ (“EAR”), the Bureau of Industry and Security (“BIS”), U.S. Department of Commerce, through its Office of Export Enforcement (“OEE”), has requested that I make the Denial Order that was imposed against the individual Joseph Piquet (“Piquet”) on May 28, 2010 (75 FR 32742, June 9, 2010) applicable to Alphatronx, Inc. (“Alphatronx”), 1258 SW. Maplewood Dr., Port St. Lucie, FL, 34986, (hereinafter, the “Related Person”), as a person related to Piquet.

¹ The EAR are currently codified at 15 CFR Parts 730-774 (2010).

Section 766.23 of the EAR provides that “[i]n order to prevent evasion, certain types of orders under this part may be made applicable not only to the respondent, but also to other persons then or thereafter related to the respondent by ownership, control, position of responsibility, affiliation, or other connection in the conduct of trade or business. Orders that may be made applicable to related persons include those that deny or affect export privileges * * *.” 15 CFR 766.23(a).

On May 28, 2010, I issued an Order pursuant to Section 11(h) of the Export Administration Act of 1979, as amended (currently codified at 50 U.S.C. app. sections 2401-2420 (2000)) (“Act”) ² and Section 766.25 of the EAR denying the export privileges under the Regulations of Piquet for 10 years. The Order was based on Piquet's conviction of violating the International Emergency Economic Powers Act (50 U.S.C. 1701 et seq. (2000)) (“IEEPA”) and Section 38 of the Arms Export Control Act (22 U.S.C. 2778 (2000)). Piquet was convicted based on his role in a conspiracy to purchase high-tech military and dual-use electronic components from a domestic corporation and to then ship the items from the United States to Hong Kong and the People's Republic of China without first obtaining the required export licenses. Among the commodities involved in this conspiracy were high power amplifiers designed for use by the U.S. military in early warning radar and missile target acquisition systems, and low noise amplifiers that have both commercial and military use.

² 50 U.S.C. app. sections 2401-2420 (2000). Since August 21, 2001, the Act has been in lapse and the President, through Executive Order 13222 of August 17, 2001 (3 CFR 2001 Comp. 783 (2002)), which has been extended by successive Presidential Notices, the most recent being that of August 12, 2010 (75 FR 50,681 (Aug. 16, 2010)), has continued the Regulations in effect under the International Emergency Economic Powers Act (50 U.S.C. 1701 et seq. (2000)).

BIS has presented evidence that indicates that Alphatronx is related to Piquet by ownership, control, position of responsibility, affiliation, or other connection in the conduct of trade or business, and that it is necessary to add this entity to the Piquet Denial Order in order to avoid evasion of that Order. The basis for naming Alphatronx to the Piquet Denial Order is that Piquet is the owner and President of Alphatronx and that Piquet made the decisions to utilize his company Alphatronx to carry out the conspiracy and subsequent violations of the AECA and IEEPA.

As provided in Section 766.23 of the EAR, I gave notice to Alphatronx that its export privileges under the EAR could be denied for up to 10 years due to its relationship with Piquet and that BIS believes naming Alphatronx as a related party to Piquet would be necessary to prevent evasion of a denial order imposed against Piquet. In providing such notice, I gave Alphatronx an opportunity to oppose its addition to the Piquet Denial Order as a related party. Having received no submission, I have decided, following consultations with BIS's Office of Export Enforcement, including its Director, to name Alphatronx as a Related Person to the Piquet Denial Order, thereby denying Alphatronx export privileges for 10 years from the date of Piquet's conviction.

I have also decided to revoke all licenses issued pursuant to the Act or EAR in which Alphatronx had an interest at the time of Piquet's conviction. The 10-year denial period will end on May 14, 2019.

Accordingly, it is hereby ordered:

First, that having been provided notice and opportunity for comment as provided in Sections 766.25 and 766.23 of the Export Administration Regulations (the “Regulations”), the following entity, Alphatronx, Inc., with a last known address at 1258 SW. Maplewood Dr., Port St. Lucie, FL, 34986, has been determined to be related to Piquet by affiliation, ownership, control, or position of responsibility in the conduct of trade or related services, and it has been deemed necessary to make the Order denying the export privileges of Piquet applicable to Alphatronx in order to prevent evasion of the Piquet Denial Order.

Second, that the denial of export privileges described in the Piquet Denial Order, which was published in the Federal Register on June 9, 2010 at 75 FR 32742, shall be made applicable to Alphatronx until its expiration on May 14, 2019, as follows:

I. Alphatronx, with a last known address at 1258 SW. Maplewood Dr., Port St. Lucie, FL, 34986, and when acting for or on behalf of Alphatronx, its successors or assigns, employees or agents (collectively, “Related Person”) may not participate, directly or indirectly, in any way in any transaction involving any commodity, software or technology (hereinafter collectively referred to as “item”) exported or to be exported from the United States that is subject to the Regulations, or in any other activity subject to the Regulations, including, but not limited to:

A. Applying for, obtaining, or using any license, License Exception, or export control document;

B. Carrying on negotiations concerning, or ordering, buying, receiving, using, selling, delivering, storing, disposing of, forwarding, transporting, financing, or otherwise servicing in any way, any transaction involving any item exported or to be exported from the United States that is subject to the Regulations, or in any other activity subject to the Regulations; or

C. Benefiting in any way from any transaction involving any item exported or to be exported from the United States that is subject to the Regulations, or in any other activity subject to the Regulations.

II. No person may, directly or indirectly, do any of the following:

A. Export or reexport to or on behalf of the Related Person any item subject to the Regulations;

B. Take any action that facilitates the acquisition or attempted acquisition by the Related Person of the ownership, possession, or control of any item subject to the Regulations that has been or will be exported from the United States, including financing or other support activities related to a transaction whereby the Related Person acquires or attempts to acquire such ownership, possession or control;

C. Take any action to acquire from or to facilitate the acquisition or attempted acquisition from the Related Person of any item subject to the Regulations that has been exported from the United States;

D. Obtain from the Related Person in the United States any item subject to the Regulations with knowledge or reason to know that the item will be, or is intended to be, exported from the United States; or

E. Engage in any transaction to service any item subject to the Regulations that has been or will be exported from the United States and which is owned, possessed or controlled by the Related Person, or service any item, of whatever origin, that is owned, possessed or controlled by the Related Person if such service involves the use of any item subject to the Regulations that has been or will be exported from the United States. For purposes of this paragraph, servicing means installation, maintenance, repair, modification or testing.

Third, that in accordance with the provisions of Section 766.23(c) of the Regulations, the Related Person may, at any time, make an appeal related to this Order by filing a full written statement in support of the appeal with the Office of the Administrative Law Judge, U.S. Coast Guard ALJ Docketing Center, 40 South Gay Street, Baltimore, Maryland 21202-4022.

Fourth, that this Order does not prohibit any export, reexport, or other transaction subject to the Regulations where the only items involved that are subject to the Regulations are the foreign-produced direct product of U.S.-origin technology.

Fifth, that this Order is effective immediately and shall remain in effect until May 14, 2019.

Sixth, that this Order shall be published in the Federal Register and a copy served on the Related Person.

Issued this 7th day of October 2010.
Bernard Kritzer,
Director, Office of Exporter Services.

[FR Doc. 2010-26118 Filed 10-15-10; 8:45 am]

BILLING CODE 3510-DT-P